NATIONAL AERONAUTICS AND SPACE ADMINISTRATION

[Notice 05-070]

National Environmental Policy Act; Mars Exploration Program

AGENCY: National Aeronautics and Space Administration (NASA).

ACTION: Notice of availability of final programmatic environmental impact statement (FPEIS) for implementation of the Mars Exploration Program (MEP).

SUMMARY: Pursuant to the National Environmental Policy Act of 1969, as amended (NEPA) (42 U.S.C. 4321 et seq.), the Council on Environmental Quality Regulations for Implementing the Procedural Provisions of NEPA (40 CFR parts 1500-1508), and NASA policy and procedures (14 CFR part 1216 subpart 1216.3), NASA has prepared and issued an FPEIS for the MEP. The FPEIS addresses the potential environmental impacts associated with continuing the preparations for and implementing the program. The MEP would be a science-driven, technology-enabled effort to characterize and understand Mars using an exploration strategy which focuses on evidence of the presence of water. The Proposed Action, that is NASA's Preferred Alternative, addresses the preparation for and implementation of a coordinated series of robotic orbital, surface, and atmospheric missions to gather scientific data on Mars and its environments through 2020. Continued planning for missions to return Martian samples to Earth would be included. Some MEP missions could use radioisotope power systems (RPSs) for electricity, radioisotope heater units (RHUs) for thermal control, and small quantities of radioisotopes in science instruments for experiments and instrument calibration. Environmental impacts associated with specific missions would be addressed in subsequent environmental documentation, as appropriate. Missions launched from the United States would likely originate from either Cape Canaveral Air Force Station (CCAFS), Florida, or Vandenberg Air Force Base (VAFB), California.

DATES: NASA will take no final action on the proposed MEP on or before May 12, 2005, or 30 days from the date of publication in the Federal Register of the EPA notice of availability of the MEP FPEIS, whichever is later.

ADDRESSES: The FPEIS may be reviewed at the following locations:

(a) NASA Headquarters, Library, Room 1J20, 300 E Street SW., Washington, DC 20546-0001;

(b) Jet Propulsion Laboratory, Visitors Lobby, Building 249, 4800 Oak Grove Drive, Pasadena, CA 91109.

Hard copies of the FPEIS may be reviewed at other NASA Centers (see SUPPLEMENTARY INFORMATION below).

Limited hard copies of the FEIS are available for distribution by contacting Mark R. Dahl at the address, telephone number, or electronic mail address indicated below. The FPEIS is also available in Acrobat® format at http://spacescience.nasa.gov/admin/pubs/mepeis/index.htm. NASA's Record of Decision (ROD) will also be placed on that Web site when it is issued. Anyone who desires a hard copy of NASA's ROD when it is issued also should contact Mr. Dahl.

FOR FURTHER INFORMATION CONTACT: Mark R. Dahl, Mission and Systems Management Division, Science Mission Directorate, Mail Suite 3C66, NASA Headquarters, Washington, DC 20546-0001; telephone (202) 358-4800; electronic mail mep.nepa@hq.nasa.gov.

SUPPLEMENTARY INFORMATION: With the MEP, NASA would establish a series of objectives to address the open scientific questions associated with the exploration of Mars. These objectives have been organized by the program as follows:

• Determine if life exists or has ever existed on Mars;

• Understand the current state and evolution of the atmosphere, surface, and interior of Mars; and

• Develop an understanding of Mars in support of possible future human exploration.

The purpose of the action addressed in the FPEIS is to further the scientific goals of the MEP by continuing the exploration and characterization of the planet. On the basis of the knowledge gained from prior and ongoing missions, it appears that Mars, like Earth, has experienced dynamic interactions among its atmosphere, surface, and interior that are, at least in part, related to water. Following the pathways and cycles of water has emerged as a strategy that possibly may lead to a preserved record of biological processes, as well as the character of ancient environments on Mars. In addition to understanding the history of Mars, investigations undertaken in the MEP may shed light on current environments that could support existing biological processes.

The Proposed Action (Alternative 1) would consist of a long-term program that, as a goal, sends at least one spacecraft to Mars during each launch opportunity extending through the first two decades of the twenty-first century. Efficient launch opportunities to Mars occur approximately every 26 months. MEP missions likely would be launched on expendable launch vehicles (e.g., Delta or Atlas class) from either CCAFS, Florida, or VAFB, California. The MEP could include international missions in which NASA proposes to be a participant and that are to be launched from a foreign site.

Under the Proposed Action, the MEP would consist of a series of robotic orbital, surface, and atmospheric missions to Mars. Some spacecraft could use RPSs for continuous electrical power, RHUs for thermal control, and small quantities of radioisotopes in science instruments for experiments and instrument calibration.

Missions beyond 2011 could include the first mission to return Martian samples to Earth. As new information and techniques become available during the course of the program, the timing, focus, and objectives of future MEP missions could be redirected.

Alternatives to the Proposed Action evaluated in the FPEIS include the following:

• Under Alternative 2, NASA would continue to explore Mars through 2020, but on a less frequent, less comprehensive, mission-by-mission basis. These missions may include international partners. Any mission proposed to continue the exploration of Mars would be developed and launched within the broader context of all other missions proposed for exploring other parts of the solar system, rather than in the context of a Mars-focused program. Robotic orbital, surface, and atmospheric missions could be used to explore Mars and could include sample return missions. Landed spacecraft could use RPSs for power generation or RHUs for thermal control of temperature-sensitive components in the spacecraft. Some spacecraft may carry small quantities of radioisotopes in science instruments for experiments and for instrument calibration.

• Under the No Action Alternative, NASA would discontinue planning for and launching robotic missions to Mars through 2020. Currently operating NASA spacecraft at or en route to Mars would continue their missions to completion. New science investigations of Mars would only be made remotely from Earth-based assets (i.e., ground- or space-based observatories, or from spacecraft developed and launched to Mars by non-U.S. space agencies).

The environmental impacts of the Proposed Action and Alternatives are discussed in the FPEIS from a programmatic perspective. Because the FPEIS has been prepared during the planning stages for the MEP, specific proposed projects and missions within the MEP are only addressed in terms of a broad, conceptual framework. Each project or mission within the MEP that would propose use of RPSs or RHUs would be the subject of additional environmental documentation. While detailed analyses and test data for each spacecraft-launch vehicle combination are not yet available, there is sufficient information from previous programs and existing NEPA documentation to assess the potential environmental impacts.

A major component of the MEP is continued planning for one or more missions that would return samples from Mars. At the time of publication of the FPEIS, preliminary concepts for a sample return mission are being studied and would continue to be refined and evaluated. A sample return mission would be the subject of separate environmental documentation, as would the location, design and operational requirements for a returned-sample receiving facility. The non-radiological environmental impacts associated with normal spacecraft launches from both CCAFS and VAFB have been addressed in previous U.S. Air Force and NASA environmental documentation. Rocket launches are discrete events that cause short-term impacts on local air quality. However, because launches are relatively infrequent events, and winds rapidly disperse and dilute the launch emissions to background concentrations, long-term effects from exhaust emissions would not be anticipated. If solid rocket motors are used, surface waters in the immediate area of the exhaust cloud might temporarily acidify from deposition of hydrogen chloride. Launching a mission during each opportunity to Mars (approximately every 26 months) under the Proposed Action or less frequently under Alternative 2 would result in negligible release of ozone-depleting chemicals with no anticipated long-term cumulative impacts.

One or more of the missions to Mars could propose the use of radioisotopes under the Proposed Action and Alternative 2. Small quantities of radioisotopes may be used for instrument calibration or to enable science experiments, and RHUs or RPSs containing varying amounts of plutonium dioxide may be used to supply heat and electric power, respectively. Under both alternatives NASA will determine the appropriate level of NEPA documentation required for any mission proposing use of radiological material. Many of the parameters that determine the risks for a specific mission are expected to be similar to those associated with previous missions (e.g., Galileo, Ulysses, Cassini, and the Spirit and Opportunity rovers). Mission-specific factors that affect the estimated risk include the amount and type of radioactive material used in a mission, the protective features of the devices containing the radioactive material, the probability of an accident which can damage the radioactive material, and the accident environments (e.g., propellant fires, debris fragments, and blast overpressure). The risks associated with a Mars exploration mission carrying radioactive material are, therefore, expected to be similar to those estimated for earlier missions. The population and individual risks associated with prior missions that have made use of radioactive material have all been shown to be relatively small.

The FPEIS may be examined at the following NASA locations by contacting the pertinent Freedom of Information Act Office:

(a) NASA, Ames Research Center, Moffett Field, CA 94035 (650-604-1181).

(b) NASA, Dryden Flight Research Center, P.O. Box 273, Edwards, CA 93523 (661-258-3449).

(c) NASA, Glenn Research Center at Lewis Field, 21000 Brookpark Road, Cleveland, OH 44135 (216-433-2755).

(d) NASA, Goddard Space Flight Center, Greenbelt Road, Greenbelt, MD 20771 (301-286-6255).

(e) NASA, Johnson Space Center, Houston, TX 77058 (281-483-8612).

(f) NASA, Kennedy Space Center, FL 32899 (321-867-9280).

(g) NASA, Langley Research Center, Hampton, VA 23681 (757-864-2497).

(h) NASA, Marshall Space Flight Center, Huntsville, AL 35812 (256-544-2030).

(i) NASA, Stennis Space Center, MS 39529 (228-688-2164).

NASA published a Notice of Availability (NOA) of the Draft PEIS (DPEIS) for the MEP in the Federal Register on April 22, 2004 (69 FR 21865). In addition, NASA made the DPEIS available in electronic format on its Web site. The U.S. Environmental Protection Agency published its NOA in the Federal Register on April 23, 2004 (69 FR 22025). NASA received ten written comment submissions during the comment period ending June 7, 2004. The comments are addressed in the FPEIS.

Jeffrey E. Sutton,
Assistant Administrator for Infrastructure and Administration.

[FR Doc. 05-7322 Filed 4-11-05; 8:45 am]

BILLING CODE 7510-13-P